DEPARTMENT OF COMMERCE

International Trade Administration

[A-337-803]

Notice of Preliminary Results of Antidumping Duty Administrative Review, Preliminary Determination To Revoke the Order in Part, and Partial Rescission of Antidumping Duty Administrative Review: Fresh Atlantic Salmon From Chile

AGENCY: Import Administration, International Trade Administration, Department of Commerce.

SUMMARY: In response to requests by fifteen producers/exporters of subject merchandise and L.R. Enterprises,¹ the Department of Commerce (the Department) is conducting an administrative review of the antidumping duty order on fresh Atlantic salmon from Chile. This review covers seventeen producers/exporters of the subject merchandise. The period of review (POR) is July 1, 2000, through June 30, 2001.

¹ L.R. Enterprises is a domestic producer of subject merchandise with operations in Lubec, Maine.

We preliminarily determine that sales of subject merchandise by four of the respondents under review have been made below normal value (NV). If these preliminary results are adopted in our final results, we will instruct the U.S. Customs Service to assess antidumping duties on appropriate entries based on the difference between the export price (EP) or constructed export price (CEP) and the normal value.

We are also rescinding this review with respect to 68 producers, and preliminarily rescinding this review with regard to one producer. Furthermore, if these preliminary results are adopted in our final results of this administrative review, we intend to revoke the antidumping order with respect to Cultivos Marinos Chiloe Ltda. (Cultivos Marinos), Pesquera Eicosal Ltda. (Eicosal), Salmones Mainstream S.A. (Mainstream), and Salmones Pacifico Sur, S.A. (Pacifico Sur). We do not intend to revoke the antidumping duty order with respect to Cultivadora de Salmones Linao Ltda. (Linao) and Salmones Tecmar, S.A. (Tecmar) because we have calculated a preliminary antidumping margin for these companies in this administrative review. If the final results of the review are positive antidumping margins for Linao and Tecmar, these companies will not have had sales not below their normal values for three consecutive years and, therefore, will not be eligible for revocation. We do not intend to revoke the antidumping duty with respect to Marine Harvest Chile S.A. (Marine Harvest), either. Marine Harvest, as currently constituted, had not existed for three years as of the end of the current review period, and has only been reviewed for two consecutive periods.² See Preliminary Determination Not To Revoke section of this notice.

² In reaching its determination on this issue, the Department is mindful of the fact that its determination in the changed circumstances review is currently under review by the U.S. Court of International Trade. The outcome of this litigation may affect the Department's determination regarding revocation for Marine Harvest in this proceeding.

Interested parties are invited to comment on these preliminary results. Parties that submit arguments are requested to submit with each argument: (1) A statement of the issue and (2) a brief summary of the argument. Further, we would appreciate parties submitting comments to provide the Department with an additional copy of the public version of any such comments on diskette.

EFFECTIVE DATE: August 7, 2002.

FOR FURTHER INFORMATION CONTACT: Tracy Levstik or Constance Handley, at (202) 482-2815 or (202) 482-0631, respectively; AD/CVD Enforcement Office V, Group II, Import Administration, International Trade Administration, U.S. Department of Commerce, 14th Street & Constitution Avenue, NW., Washington, DC 20230.

SUPPLEMENTARY INFORMATION:

Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department's regulations are to 19 CFR part 351 (2001).

Case History

On July 30, 1998, the Department issued an antidumping duty order on fresh Atlantic salmon from Chile. See Notice of Amended Final Determination of Sales at Less Than Fair Value and Antidumping Duty Order: Fresh Atlantic Salmon from Chile, 63 FR 40699 (July 30, 1998). On July 2, 2001, the Department issued a notice of opportunity to request an administrative review of this order. See Antidumping or Countervailing Duty Order, Finding, or Suspended Investigation; Opportunity to Request Administrative Review, 66 FR 34910 (July 2, 2001).

In accordance with 19 CFR 351.213(b)(2), the following producers/exporters made timely requests that the Department conduct an administrative review for the period from July 1, 2000, through June 30, 2001: (1) Chile Cultivos, S.A. (Chile Cultivos); (2) Linao; (3) Cultivos Marinos; (4) Fiordo Blanco S.A. (Fiordo Blanco); (5) Invertec Pesquera Mar de Chiloe Ltda (Invertec); (6) Marine Harvest; (7) Pesca Chile S.A. (Pesca Chile); (8) Eicosal; (9) Pesquera Pacific Star (Pacific Star); (10) Robinson Crusoe Y Cia. Ltda. (Robinson Crusoe); (11) Salmones Friosur S.A. (Friosur); (12) Mainstream; (13) Salmones Multiexport Ltda. (Multiexport); (14) Pacifico Sur; and (15) Tecmar.

In addition, on July 31, 2001, L.R. Enterprises, Inc., a domestic producer of subject merchandise, requested a review of 86 producers/exporters of fresh Atlantic salmon. As explained below, L.R. Enterprises, Inc., subsequently withdrew its request for review of all but 17 of these companies.

On August 20, 2001, we published the notice of initiation of this antidumping duty administrative review, covering the period July 1, 2000, through June 30, 2001. See Initiation of Antidumping and Countervailing Duty Administrative Reviews and Requests for Revocation in Part, 66 FR 43570 (August 20, 2001).

Per letters filed on September 4, 7, 19, October 18, and November 1 and 16, 2001, L.R. Enterprises, Inc., withdrew its request for review for all companies except the following: (1) Cultivos Marinos; (2) Eicosal; (3) Friosur; (4) Invertec; (5) Linao; (6) Los Fiordos Ltda. (Los Fiordos); (7) Mainstream; (8) Marine Harvest; (9) Multiexport; (10) Ocean Horizons Chile S.A. (Oceans Horizons); (11) Pacifico Sur; (12) Patagonia Salmon Farming S.A. (Patagonia); (13) Pesca Chile; (14) Robinson Crusoe; (15) Salmones Andes S.A. (Andes); (16) Salmones Unimarc, S.A. (Salmones Unimarc), and (17) Tecmar.

On September 13, 2001, Chile Cultivos submitted a letter withdrawing its request for an administrative review.

Partial Rescission of Antidumping Duty Administrative Review

Salmones Unimarc certified to the Department that it had not shipped subject merchandise to the United States during the POR. Our examination of entry data for U.S. imports confirmed that Salmones Unimarc had not shipped subject merchandise to the United States during the POR. Therefore, pursuant to 19 CFR 315.213(d)(3), we are preliminarily rescinding the review with respect to Salmones Unimarc.

In addition we are rescinding the review with regard to the following companies for which L.R. Enterprises, Inc., withdrew its request for a review, and with regard to Chile Cultivos, which withdrew its request for a review:

Acuicultura de Aquas Australes

Agromar Ltda.

Aguas Claras S.A.

Antarfish S.A.

Aquachile S.A.

Aquasur Fisheries Ltda.

Asesoria Acuicola S.A.

Australis S.A.

Best Salmon

Cenculmavique

Centro de Cultivo de Moluscos

Cerro Farrellon Ltda.

Chile Cultivos S.A.

Chisal S.A.

Comercializadora Smoltech Ltda.

Complejo Piscicola Coyhaique

Cultivos San Juan

Cultivos Yardan S.A.

Empresa Nichiro Chile Ltda.

Fiordo Blanco

Fisher Farms

Fitz Roy S.A.

Ganadera Del Mar

G.M. Tornagaleones S.A.

Hiuto Salmones S.A.

Huitosal Mares Australes Salmo Pac.

Instituto Tecnologico Del Salmon S.A.

Inversiones Pacific Star Ltda.

Manao Bay Fishery S.A.

Mardim Ltda.

Pacific Mariculture

Patagonia Fish Farming S.A.

Pesquera Antares S.A.

Pesquera Chiloe S.A.

Pesquera Friosur S.A.

Pesquera Mares de Chile S.A.

Pesquera Pacific Star

Pesquera Quellon Ltda.

Pesquera Y Comercial Rio Peulla S.A.

Piscicola Entre Rios S.A.

Piscicultura Iculpe

Piscicultura La Cascada

Piscultura Santa Margarita

Productos Del Mar Ventisqueros S.A.

Prosmolt S.A.

Quetro S.A.

River Salmon S.A.

Salmoamerica

Salmones Antarctica S.A.

Salmones Aucar Ltda.

Salmones Caicaen S.A.

Salmones Calbuco S.A.

Salmones Chiloe S.A.

Salmones Huillinco S.A.

Salmones Ice Val Ltda.

Salmones Llanquihue

Salmones Pacific Star Ltda.

Salmones Quellon

Salmones Ranco Sur Ltda.

Salmones Skyring S.A.

Salmones Tierra Del Fuego Ltda.

Salmosan

Seafine Salmon S.A.

Soc. Alimentos Maritimos Avalon Ltda.

Soc. Aquacultivos Ltda.

Truchas Aguas Blancas Ltda.

Trusal S.A.

Ventisqueros S.A.

Scope of the Review

The product covered by this review is fresh, farmed Atlantic salmon, whether imported “dressed” or cut. Atlantic salmon is the species Salmo salar, in the genus Salmo of the family salmoninae. “Dressed” Atlantic salmon refers to salmon that has been bled, gutted, and cleaned. Dressed Atlantic salmon may be imported with the head on or off; with the tail on or off; and with the gills in or out. All cuts of fresh Atlantic salmon are included in the scope of the review. Examples of cuts include, but are not limited to: crosswise cuts (steaks), lengthwise cuts (fillets), lengthwise cuts attached by skin (butterfly cuts), combinations of crosswise and lengthwise cuts (combination packages), and Atlantic salmon that is minced, shredded, or ground. Cuts may be subjected to various degrees of trimming, and imported with the skin on or off and with the “pin bones” in or out.

Excluded from the scope are (1) fresh Atlantic salmon that is “not farmed” (i.e., wild Atlantic salmon); (2) live Atlantic salmon; and (3) Atlantic salmon that has been subject to further processing, such as frozen, canned, dried, and smoked Atlantic salmon, or processed into forms such as sausages, hot dogs, and burgers.

The merchandise subject to this investigation is classifiable as item numbers 0302.12.0003 and 0304.10.4093, 0304.90.1009, 0304.90.1089, and 0304.90.9091 of the Harmonized Tariff Schedule of the United States (HTSUS). Although the HTSUS statistical reporting numbers are provided for convenience and customs purposes, the written description of the merchandise is dispositive.

Verification

As provided in section 782(i)(2) of the Act, we verified information provided by Cultivos Marinos, Eicosal, Mainstream, Marine Harvest, Pacifico Sur, Tecmar and Linao. We used standard verification procedures, including on-site inspection of the respondent producers' facilities and examination of relevant sales and financial records.

Fair Value Comparisons

We compared the export price (EP) or constructed export price (CEP) to the NV, as described in the Export Price and Constructed Export Price and Normal Value sections of this notice. We first attempted to compare contemporaneous sales of products sold in the United States and comparison markets that are identical with respect to the matching characteristics. Pursuant to section 771(16) of the Act, all products produced by the respondents that fit the definition of the scope of the review and were sold in the comparison markets during the POR fall within the definition of the foreign like product. We have relied on four criteria to match U.S. sales of subject merchandise to comparison market sales of the foreign like product: form, grade, weight band, and trim. As in all previous administrative reviews, we have determined that it is generally not possible to match products of dissimilar forms, grades, and weight bands, because there are significant differences among products that cannot be accounted for by means of a difference-in-merchandise adjustment; we did, where appropriate, make comparisons of merchandise with different trims. (Unlike the other three physical characteristics, trim is the result of a processing operation with readily identifiable differences in the variable cost of manufacturing, which permits the comparison of similar products with a difference-in-merchandise adjustment.) See Notice of Final Results of Antidumping Duty Administrative Review: Fresh Atlantic Salmon from Chile, 65 FR 78472 (December 15, 2000). Where there were no appropriate sales of comparable merchandise, we compared the merchandise sold in the United States to constructed value (CV).

Collapse of Affiliated Parties

In November 2000, Linao and Tecmar were wholly purchased by a common parent, Fjord Seafood ASA. Such members of a corporate grouping are considered affiliated parties under section 351.102(b) of the Department's regulations (defining “affiliated” parties). Section 351.401(f)(1) of the regulations provides for affiliated producers of subject merchandise to be treated as a single entity (i.e., collapsed), where (1) those producers have production facilities for similar or identical products that would not require substantial retooling of either facility in order to restructure manufacturing priorities and (2) the Department concludes that there is a significant potential for manipulation of price or production.

Section 351.401(f)(2) of the Department's regulations provides factors for the Department to consider when looking for a significant potential for manipulation of price or production, namely (i) the level of common ownership; (ii) the extent to which managerial employees or board members of one firm sit on the board of directors of an affiliated firm; and (iii) whether operations are intertwined, such as through the sharing of sales information, involvement in production and pricing decisions, the sharing of facilities or employees, or significant transactions between the affiliated producers. Because they were purchased by a common parent during the POR and have production facilities for identical products, we find that there is a significant potential for the manipulation of prices or production. Accordingly, for the period November 15, 2000 through June 30, 2001 we have collapsed Linao and Tecmar (Linao/Tecmar) for purposes of our analysis.

Export Price and Constructed Export Price

For the price to the United States, we used, as appropriate, EP or CEP as defined in sections 772(a) and 772(b) of the Act, respectively. Section 772(a) of the Act defines EP as the price at which the subject merchandise is first sold (or agreed to be sold) before the date of importation by the exporter or producer outside the United States to an unaffiliated purchaser for exportation to the United States. Section 772(b) of the Act defines CEP as the price at which the subject merchandise is first sold inside the United States before or after the date of importation, by or for the account of the producer or exporter of the merchandise, or by a seller affiliated with the producer or exporter, to an unaffiliated purchaser, as adjusted under subsections 772(c) and (d) of the Act.

For all respondents, we calculated EP and CEP, as appropriate, based on the packed prices charged to the first unaffiliated customer in the United States. Where sales were made through an unaffiliated consignment broker, we did not consider the consignment broker to be the customer; rather, we considered the customer to be the consignment broker's customer.

In accordance with section 772(c)(2) of the Act, for both the EP and CEP transactions, we reduced the starting price by amounts for movement expenses and export taxes and duties, where appropriate. Section 772(d)(1) of the Act provides for additional adjustments to CEP. Consistent with past practice, for these sales we deducted from the CEP commissions charged to, and other direct expenses incurred for the account of, the producer/exporter related to economic activity in the United States. See Notice of Preliminary Results of Antidumping Duty Administrative Review and Partial Rescission of Antidumping Administrative Review: Fresh Atlantic Salmon From Chile, 65 FR 48457, 48460 (August 8, 2000). We did not deduct an amount for CEP profit for these sales, because the commission already contains an element for profit realized by the unaffiliated consignment broker. For Marine Harvest, Multiexport and Pesca Chile, which made sales through an affiliated reseller, we calculated a CEP profit ratio following the methodology set forth in section 772(f) of the Act. We determined the EP or CEP for each company as follows:

Andes

We calculated an EP for all of Andes' sales because the merchandise was sold directly by Andes to the first unaffiliated purchaser in the United States prior to importation, and CEP was not otherwise warranted based on the facts of record. We made deductions from the starting price for movement expenses in accordance with section 772(c)(2)(A) of the Act. These include inland freight, international freight, and brokerage.

Cultivos Marinos

We calculated an EP for all of Cultivos Marinos' sales because the merchandise was sold directly by Cultivos Marinos to the first unaffiliated purchaser in the United States prior to importation, and CEP was not otherwise warranted based on the facts of record. We made deductions from the starting price for movement expenses in accordance with section 772(c)(2)(A) of the Act. These include foreign inland freight, international freight, U.S. brokerage and U.S. duties. We also deducted the amount for billing adjustments from the starting price and added duty drawback, in accordance with section 772(c)(1)(B) of the Act.

Eicosal

We calculated an EP for all of Eicosal's sales because the merchandise was sold directly by Eicosal to the first unaffiliated purchaser in the United States prior to importation, and CEP was not otherwise warranted based on the facts of record. We made deductions from the starting price for movement expenses in accordance with section 772(c)(2)(A) of the Act. These include inland freight, international freight, U.S. brokerage and U.S. duties. We also deducted the amount for billing adjustments from the starting price and added duty drawback, in accordance with section 772(c)(1)(B) of the Act.

Friosur

We calculated an EP for all of Friosur's sales because the merchandise was sold directly by Friosur to the first unaffiliated purchaser in the United States prior to importation, and CEP was not otherwise warranted based on the facts of record. We made deductions from the starting price for movement expenses in accordance with section 772(c)(2)(A) of the Act. These include inland freight, international freight, domestic and U.S. brokerage and handling expenses, U.S. customs duties and unloading costs. We also added duty drawback to the starting price, in accordance with section 772(c)(1)(B) of the Act.

Invertec

We calculated an EP for all of Invertec's sales because the merchandise was sold directly by Invertec to the first unaffiliated purchaser in the United States prior to importation, and CEP was not otherwise warranted based on the facts of record. We made deductions from the starting price for movement expenses in accordance with section 772(c)(2)(A) of the Act. These include inland freight, international freight, domestic and U.S. brokerage and handling expenses and U.S. customs duties. We also added duty drawback to the starting price, in accordance with section 772(c)(1)(B) of the Act.

Linao and Tecmar

For the period July 1, 2000 through November 14, 2001, we performed company-specific analyses for Linao and Tecmar. As of November 15, 2001, due to our decision to collapse the two companies, the databases of the two companies were merged, and a joint analysis was performed.

During the POR, Linao made both EP and CEP transactions. We calculated an EP for sales where the merchandise was sold directly by Linao to the first unaffiliated purchaser in the United States prior to importation, and CEP was not otherwise warranted based on the facts of record. We calculated a CEP for sales made for the account of the producer/exporter by an unaffiliated consignment broker in the United States after the date of importation. EP and CEP sales were based on the packed, delivered and duty-paid (DDP) U.S. port and CIF U.S. port prices for exportation to the United States. We made deductions from the starting price for discounts and rebates, as well as movement expenses in accordance with section 772(c)(2)(A) of the Act. These include inland freight, international freight, U.S. brokerage, and U.S. duties. We also deducted the amount for billing adjustments from the starting price and added the amount for duty drawback, in accordance with section 772(c)(1)(B) of the Act.

In accordance with section 772(d)(1) of the Act, for CEP sales we also deducted from the starting price those selling expenses that were incurred in selling the subject merchandise in the United States, including commissions to unaffiliated consignment brokers, direct selling expenses (credit expenses and industry association fees), and miscellaneous selling expenses incurred in the United States by the unaffiliated consignment broker on behalf of the exporter which were charged to the respondent separately from the commission. As discussed above, we did not deduct an amount for CEP profit, because the commission to the unaffiliated broker is considered to contain an element of profit.

For Tecmar, we calculated an EP for all of Tecmar's sales because the merchandise was sold directly by Tecmar to the first unaffiliated purchaser in the United States prior to importation, and CEP was not otherwise warranted based on the facts of record. We made deductions from the starting price for movement expenses in accordance with section 772(c)(2)(A) of the Act. These include inland freight, international freight, U.S. brokerage and handling, and U.S. duties. We also added the amount for duty drawback to the starting price, in accordance with section 772(c)(1)(B) of the Act.

Los Fiordos

We calculated an EP for all of Los Fiordos' sales because the merchandise was sold directly by Los Fiordos to the first unaffiliated purchaser in the United States prior to importation and CEP was not otherwise warranted based on the facts of record. We made deductions from the starting price for movement expenses in accordance with section 772(c)(2)(A) of the Act. These include inland freight, international freight, brokerage and handling, and U.S. Customs duties. We also deducted the amount for billing adjustments from the starting price and added duty drawback, in accordance with section 772(c)(1)(B) of the Act.

Mainstream

We calculated an EP for all of Mainstream's sales because the merchandise was sold directly by Mainstream to the first unaffiliated purchaser in the United States prior to importation, and CEP was not otherwise warranted based on the facts of record. We made deductions from the starting price for movement expenses in accordance with section 772(c)(2)(A) of the Act. These include inland freight, international freight, brokerage and handling, and U.S. customs duties. We also deducted the amount for billing adjustments from the starting price and added duty drawback, in accordance with section 772(c)(1)(B) of the Act.

Marine Harvest

We calculated a CEP for Marine Harvest's sales, all of which were made by an affiliated reseller in the United States after the date of importation. We made deductions from the starting price for movement expenses in accordance with section 772(c)(2)(A) of the Act. These include inland freight, international freight, U.S. duties and U.S. brokerage. We also deducted the amount for billing adjustments and rebates from the starting price, in accordance with section 772(c)(1)(B) of the Act, and added duty drawback, in accordance with section 772(c)(1)(B).

In accordance with section 772(d)(1) of the Act, for CEP sales, we deducted from the starting price those selling expenses that were incurred in selling the subject merchandise in the United States, including commissions and other direct selling expenses (credit, inspection association fees, and brokerage, handling and document processing costs). We also deducted from CEP an amount for profit in accordance with section 772(d)(3) of the Act.

Multiexport

During the POR, Multiexport made both EP and CEP transactions. We calculated an EP for sales where the merchandise was sold directly by Multiexport to the first unaffiliated purchaser in the United States prior to importation. We calculated a CEP for sales made for the account of the producer/exporter by an affiliated reseller in the United States after the date of importation.

We made deductions from the starting price for rebates, as well as movement expenses in accordance with section 772(c)(2)(A) of the Act. These include inland freight, international freight, and U.S. duties. We also added the amounts for delivery revenues and for duty drawback, in accordance with section 772(c)(1)(B) of the Act.

In accordance with section 772(d)(1) of the Act, for CEP sales we also deducted from the starting price those selling expenses that were incurred in selling the subject merchandise in the United States, including direct selling expenses (including credit expenses and miscellaneous direct selling expenses), and indirect selling expenses incurred by the affiliated reseller in the United States. We also deducted from CEP an amount for profit in accordance with section 772(d)(3) of the Act.

Ocean Horizons

We calculated a CEP for Ocean Horizon's sales, all of which were made by an affiliated reseller in the United States after the date of importation. We made deductions from the starting price for movement expenses in accordance with section 772(c)(2)(A) of the Act. These include inland freight, international freight, foreign brokerage and handling, and U.S. duties. We also added duty drawback, in accordance with section 772(c)(1)(B) of the Act.

In accordance with section 772(d)(1) of the Act, for CEP sales, we also deducted from the starting price those direct selling expenses that were incurred in selling the subject merchandise in the United States (credit and inspection association fees). We also deducted from CEP an amount for profit in accordance with section 772(d)(3) of the Act.

Pacifico Sur

We calculated an EP for all of Pacifico Sur's U.S. sales because the merchandise was sold directly by Pacifico Sur to the first unaffiliated purchaser in the United States prior to importation, and CEP was not otherwise warranted based on the facts of record. We made deductions from the starting price for movement expenses in accordance with section 772(c)(2)(A) of the Act. These include inland freight, international freight, U.S. brokerage, and U.S. duties. We also added the amount for duty drawback, in accordance with section 772(c)(1)(B) of the Act.

Patagonia

We calculated an EP for all of Patagonia's U.S. sales because the merchandise was sold directly by Patagonia to the first unaffiliated purchaser in the United States prior to importation, and CEP was not otherwise warranted based on the facts of record. We made deductions from the starting price for movement expenses in accordance with section 772(c)(2)(A) of the Act. These include inland freight, international freight, U.S. brokerage, and U.S. duties. We also added the amount for duty drawback, in accordance with section 772(c)(1)(B) of the Act.

Pesca Chile

During the POR, Pesca Chile made both EP and CEP transactions. We calculated an EP for sales where the merchandise was sold directly by Pesca Chile to the first unaffiliated purchaser in the United States prior to importation. We calculated a CEP for sales made for the account of the producer/exporter by an affiliated reseller in the United States after the date of importation.

We made deductions from the starting price for movement expenses in accordance with section 772(c)(2)(A) of the Act. These include inland freight, inland insurance, international freight, warehousing, U.S. brokerage, and U.S. duties. We also deducted the amount for billing adjustments and rebates from the starting price, in accordance with section 772(c)(1)(B) of the Act.

In accordance with section 772(d)(1) of the Act, for CEP sales, we also deducted from the starting price those selling expenses that were incurred in selling the subject merchandise in the United States, including commissions and other direct selling expenses (credit, inspection association fees, and bank charges). We also deducted from CEP an amount for profit in accordance with section 772(d)(3) of the Act.

Robinson Crusoe

We calculated an EP for all of Robinson Crusoe's sales because the merchandise was sold directly by Robinson Crusoe to the first unaffiliated purchaser in the United States prior to importation, and CEP was not otherwise warranted based on the facts of record. We made deductions from the starting price for movement expenses in accordance with section 772(c)(2)(A) of the Act. These include inland freight, inland insurance, international freight, U.S. brokerage and handling, and U.S. duties. We also added the amount for duty drawback to the starting price, in accordance with section 772(c)(1)(B) of the Act.

Normal Value

A. Selection of Comparison Markets

Based on a comparison of the aggregate quantity of home market sales and U.S. sales by Cultivos Marinos, Eicosal, and Multiexport we determined that the quantity of foreign like product sold in Chile permitted a proper comparison with the sales of the subject merchandise to the United States pursuant to section 773(a)(1)(B) of the Act, because the quantity of sales in the home market was more than five percent of the quantity of sales to the U.S. market for each of these respondents. Accordingly, for those three respondents we based NV on home market sales.

Respondents Andes, Friosur, Invertec, Los Fiordos, Mainstream, Marine Harvest, Pesca Chile, and Robinson Crusoe did not have viable home markets, as defined above. Therefore, for these respondents, in accordance with section 773(a)(1)(C) of the Act, we based NV on the price at which the foreign like product was first sold for consumption in each respondent's largest third-country market. For Andes, Friosur, Invertec, Mainstream, Marine Harvest and Pesca Chile, the largest third-country market is Brazil; for Robinson Crusoe, the largest third-country market is Mexico; and for Los Fiordos, the largest third country market is Canada.

Respondents Ocean Horizons, Pacifico Sur and Patagonia did not have any viable comparison market. Therefore, in accordance with section 773(e) of the Act, we based NV for these respondents on CV.

Neither Tecmar nor Linao had viable home markets. In addition, prior to its date of affiliation with Tecmar, Linao did not have a viable comparison market. Therefore, in accordance with section 773(e) of the Act, we based NV for Linao, for the period July 1, 2000 until November 14, 2000, on CV. Tecmar's largest third-country market was Argentina. We used Tecmar's sales to Argentina for the purposes of calculating NV for Tecmar from July 1, 2000 until November 14, 2001. We also used Tecmar's sales to Argentina for the collapsed entity, Linao/Tecmar, after November 15, 2001.

B. Cost of Production Analysis

Based on a timely allegation filed by L.R. Enterprises, we initiated cost of production (COP) investigations of Multiexport, Robinson Crusoe, Linao and Tecmar, and Pesca Chile to determine whether sales were made at prices below the COP. See Memorandum From Case Analysts to Gary Taverman, dated January 23, 2002. In addition, we initiated a cost of production investigation of Marine Harvest to determine whether sales were made at price below the COP. See Memorandum From Case Analyst to Gary Taverman, dated February 8, 2002.³

³ On October 30, 2001, L.R. Enterprises filed a cost allegation with respect to Marine Harvest. On January 4, 2002, the Department determined that this allegation was inadequate. See Letter From Constance Handley to Michael Coursey, dated January 4, 2002. However, L.R. Enterprises submitted a revised cost allegation on January 7, 2002, which the Department deemed adequate. As such, the Department initiated a cost of production investigation on February 8, 2002.

On November 26, 2001, L.R. Enterprises also filed a cost allegation with respect to Mainstream. On January 23, 2002, the Department determined that this allegation was inadequate, and did not initiate a cost investigation with respect to that respondent. See Memorandum From Case Analysts to Gary Taverman, dated January 23, 2002. On February 7, 2002, L.R. Enterprises submitted a letter stating that the Department's decision with regard to Mainstream was based on a flawed analysis. On April 17, 2002, the Department again determined that the allegation of L.R. Enterprises was inadequate and did not initiate a cost investigation with respect to Mainstream. See Memorandum from Case Analyst to Bernard Carreau, Deputy Assistant Secretary for Import Administration, dated April 17, 2002.

Because we disregarded below-cost sales in the calculation of the final results of the second administrative review of Eicosal, we had reasonable grounds to believe or suspect that home market sales of the foreign like product by Eicosal had been made at prices below the COP during the period of this review. Therefore, pursuant to section 773(b)(1) of the Act, we also initiated a COP investigation regarding home market sales by Eicosal.

1. Calculation of COP

In accordance with section 773(b)(3) of the Act, we calculated the weighted-average COP, by model, based on the sum of materials, fabrication, and general and administrative (G&A) expenses. We relied on the submitted COPs except in the specific instances noted below, where the submitted costs were not appropriately quantified or valued.

Eicosal

We revised financial expenses to reflect changes determined at verification.

Linao and Tecmar

We revised G&A and financial expenses to reflect changes determined at verification.

Marine Harvest

We revised the cost of production, variable cost of manufacture and total cost of manufacture reported in Schedule A for two forms/trims, as determined at verification.

Pacifico Sur

We used the revised, verified costs presented at verification.

2. Test of Comparison Market Sales Prices

As required by section 773(b) of the Act, we compared the adjusted weighted-average COP for each respondent subject to a cost investigation to the comparison-market sales prices of the foreign like product, in order to determine whether these sales had been made at prices below the COP within an extended period of time in substantial quantities, and whether such prices were sufficient to permit the recovery of all costs within a reasonable period of time. On a product-specific basis, we compared the COP or revised COP, as appropriate, to the comparison-market prices, less any applicable movement charges, taxes, rebates, commissions, and other direct and indirect selling expenses.

3. Results of the COP Test

We disregarded below-cost sales where (1) 20 percent or more of a respondent's sales of a given product were made at prices below the COP and thus such sales were made within an extended period of time in substantial quantities in accordance with sections 773(b)(2)(B) and (C) of the Act, and (2) based on comparisons of price to weighted-average COPs for the POR, we determined that the below-cost sales of the product were at prices which would not permit recovery of all costs within a reasonable time period, in accordance with section 773(b)(2)(D) of the Act. We disregarded comparison market sales of Eicosal, Linao and Tecmar, Marine Harvest, Multiexport, and Robinson Crusoe.

C. Calculation of Normal Value Based on Comparison-Market Prices

We determined price-based NVs for respondent companies as follows. For all respondents, we made adjustments for any differences in packing, in accordance with section 773(a)(6) of the Act, and we deducted movement expenses pursuant to section 773(a)(6)(B)(ii) of the Act. In addition, where applicable, we made adjustments for differences in cost attributable to differences in physical characteristics of the merchandise pursuant to section 773(a)(6)(C)(ii) of the Act, as well as for differences in circumstances of sale (COS) in accordance with section 773(a)(6)(C)(iii) of the Act and 19 CFR 351.410. We also made adjustments, pursuant to 19 CFR 351.410(e), for indirect selling expenses incurred on comparison-market or U.S. sales where commissions were granted on sales in one market but not in the other (the commission offset).

Company-specific adjustments are described below.

Andes

We based third-country market prices on the packed prices to unaffiliated purchasers in Brazil. We adjusted for the following movement expenses: foreign inland freight and customs brokerage. We made COS adjustments by deducting direct selling expenses incurred for third-country market sales (credit, association fees, Certificate of Origin and Health Certificate fees, and bank charges) and adding U.S. direct selling expenses (credit, association fees, and bank charges). In addition, we deducted third-country packing expenses and added U.S. packing expenses.

Cultivos Marinos

We based home market prices on the packed prices to unaffiliated purchasers in Chile. We adjusted the starting price for foreign inland freight. We made COS adjustments by deducting direct selling expenses incurred for home market sales (credit) and adding U.S. direct selling expenses (credit). We also deducted home market packing expenses and added U.S. packing expenses.

Eicosal

We based home market prices on the packed prices to unaffiliated purchasers in Chile. We adjusted the starting price for foreign inland freight and billing adjustments. We made COS adjustments by deducting direct selling expenses incurred for home market sales (credit) and adding U.S. direct selling expenses (credit, association fees, and bank charges). We also deducted home market packing expenses and added U.S. packing expenses.

Friosur

We based third-country market prices on the packed prices to unaffiliated purchasers in Brazil. We deducted billing adjustments and adjusted for the following movement expenses: foreign inland freight, international freight and brokerage and handling. We made COS adjustments by deducting direct selling expenses incurred for third-country market sales (including credit) and adding U.S. direct selling expenses (including credit and quality control expenses). We also added the amount for third-country duty drawback to the starting price. In addition, we deducted third-country packing expenses and added U.S. packing expenses and third-country duty drawback.

Invertec

We based third-country market prices on the packed prices to unaffiliated purchasers in Brazil. We adjusted for the following movement expenses: foreign inland freight, international freight, customs brokerage and special handling expenses. We made COS adjustments by deducting direct selling expenses incurred for third-country market sales (including commissions, credit, certification expenses and bank charges) and adding U.S. direct selling expenses (including credit). We also added the amount for third-country duty drawback to the starting price. In addition, we deducted third-country packing expenses and added U.S. packing expenses and third-country duty drawback.

Linao and Tecmar

For Tecmar, from June 30, 2000 through November 14, 2001 and for the collapsed entity Linao/Tecmar, we based third-country market prices on the packed prices to unaffiliated purchasers in Argentina. We adjusted for the following movement expenses: foreign inland freight, international freight and brokerage and handling. We also added the amount for third-country duty drawback to the starting price. In addition, we deducted third-country packing expenses and added U.S. packing expenses. For comparisons to EP transactions in the United States, we made COS adjustments by deducting direct selling expenses incurred for third-country market sales (including credit, quality control, and health certification) and adding U.S. direct selling expenses (including credit, quality control, and health certification). For comparisons to CEP transactions, we made COS adjustments by deducting direct selling expenses incurred on third-country market sales.

Linao did not have a viable home market or third-country sales prior to its affiliation with Tecmar. As discussed below, we calculated CV for Linao's NV from July 1, 2000 to November 14, 2001.

Los Fiordos

We based third-country market prices on the packed prices to unaffiliated purchasers in Canada. We adjusted for the following movement expenses: foreign inland freight, international freight, and brokerage charges. We made COS adjustments by deducting direct selling expenses incurred for third-country market sales (credit, association fees and bank charges) and adding U.S. direct selling expenses (credit, association fees and bank charges). We also added the amount for third-country duty drawback to the starting price. In addition, we deducted third-country packing expenses and added U.S. packing expenses and third-country duty drawback.

Mainstream

We based third-country market prices on the packed prices to unaffiliated purchasers in Brazil. We adjusted for the following movement expenses: foreign inland freight, international freight, customs fees and airport handling charges. We made COS adjustments by deducting direct selling expenses incurred for third-country market sales (credit, sanitary certification fees, association fees, bank charges, loan guarantee fees, and other direct selling expenses) and adding U.S. direct selling expenses (credit, association fees, and bank charges).

Marine Harvest

We based third-country market prices on the packed prices to unaffiliated purchasers in Brazil. We adjusted for inland freight, a movement expense. We made COS adjustments by deducting direct selling expenses incurred for third-country market sales (credit, inspection association fees, and brokerage, handling and document processing costs). We also added third-country duty drawback to the starting price. In addition, we deducted third-country packing expenses and added U.S. packing expenses.

Multiexport

We based home market prices on the packed prices to unaffiliated purchasers in Chile. We adjusted the starting price for foreign inland freight. We also deducted home market packing expenses and added U.S. packing expenses. For comparison to EP transactions, we made COS adjustments by deducting direct selling expenses incurred for home market sales (credit) and adding U.S. direct selling expenses (credit). For comparisons to CEP transactions, we made COS adjustments by deducting direct selling expenses incurred on home market sales.

Ocean Horizons

Ocean Horizons did not have a viable home market or third-country sales during the POR. As discussed below, we calculated CV for Ocean Horizons' NV.

Pacifico Sur

Pacifico Sur did not have a viable home market or third-country sales during the POR. As discussed below, we calculated CV for Pacifico Sur's NV.

Patagonia

Patagonia did not have a viable home market or third-country sales during the POR. As discussed below, we calculated CV for Patagonia's NV.

Pesca Chile

We based third-country market prices on the packed prices to unaffiliated purchasers in Brazil. We adjusted for the following movement expenses: foreign inland freight and inland insurance. In addition, we deducted third-country packing expenses and added U.S. packing expenses and third-country duty drawback. For comparisons to EP transactions, we made COS adjustments by deducting direct selling expenses incurred for third-country market sales (including commissions, credit, association fees, and bank charges) and adding U.S. direct selling expenses (including commissions, credit, association fees, bank charges, and customs expenses). For comparisons to CEP transactions, we made COS adjustments by deducting direct selling expenses incurred on third-country market sales.

Robinson Crusoe

We based third-country market prices on the packed prices to unaffiliated purchasers in Mexico. We adjusted for the following movement expenses: foreign inland freight and inland insurance. We made COS adjustments by deducting direct selling expenses incurred for third-country market sales (including credit, accounts receivable insurance, association fees, and quality certification inspection expenses) and adding U.S. direct selling expenses (including credit, accounts receivable insurance, association fees, and quality certification inspection expenses). In addition, we deducted third-country packing expenses and added U.S. packing expenses and third-country duty drawback.

D. Calculation of Normal Value Based on Constructed Value

For those sales for which we could not determine NV based on comparison-market sales because there were no contemporaneous sales of a comparable product in the ordinary course of trade, we compared EP or CEP, to CV. Section 773(e) of the Act provides that CV shall be based on the sum of the cost of materials and fabrication for the foreign like product, plus amounts for selling, general and administrative expenses (SG&A), profit, and U.S. packing. We calculated CV based on the methodology described in the COP section, above. In accordance with section 773(e)(2)(A) of the Act, we used the actual amounts incurred and realized by each respondent in connection with the production and sale of the foreign like product, in the ordinary course of trade, for consumption in the comparison market to calculate SG&A expenses and profit. For Linao, from July 1, 2000 through November 14, 2001, and for Ocean Horizons, Pacifico Sur, and Patagonia, which had no comparison market sales, we calculated CV following the same methodology, except that we relied on the weighted-average SG&A and profit ratios of the three respondents (Cultivos Marinos, Eicosal and Multiexport) that had a viable home market, consistent with section 773(e)(2)(B)(ii) of the Act.

For price-to-CV comparisons, we made adjustments to CV for COS differences, pursuant to section 773(a)(8) of the Act. Company-specific adjustments are described below.

Andes

We made COS adjustments by deducting direct selling expenses incurred for third-country market sales (credit, association fees, Certificate of Origin and Health Certificate fees, and bank charges) and adding U.S. direct selling expenses (credit, association fees, and bank charges).

Cultivos Marinos

We made COS adjustments by deducting direct selling expenses incurred for home market sales (credit) and adding U.S. direct selling expenses (credit) and third-country duty drawback.

Eicosal

We made COS adjustments by deducting direct selling expenses incurred for home market sales (credit expense) and adding U.S. direct selling expenses (credit expense, association fees, and bank charges).

Friosur

We made COS adjustments by deducting direct selling expenses incurred for home market sales (including credit and quality control expenses) and adding U.S. direct selling expenses (including credit and quality control expenses).

Linao and Tecmar

For Linao, from July 1, 2000 through November 14, 2001, we made COS adjustments by deducting the weighted-average direct selling expenses incurred by the three respondents that had a viable home market during the period and, for comparison to EP transactions, adding U.S. direct selling expenses (credit, quality control, and health certification expenses).

For Tecmar, and for the collapsed entity Linao/Tecmar, we made COS adjustments by deducting direct selling expenses incurred for third-country market sales (credit, quality control, and health certification expenses). For comparison to EP transactions, we added U.S. direct selling expenses (credit, quality control, and health certification expenses).

Los Fiordos

We made COS adjustments by deducting direct selling expenses incurred for third-country sales (credit, association fees and bank charges) and adding U.S. direct selling expenses (credit, association fees and bank charges).

Mainstream

We made COS adjustments by deducting direct selling expenses incurred for third-country market sales (credit, sanitary certification fees, association fees, bank charges, loan guarantee fees, and other direct selling expenses) and adding U.S. direct selling expenses (credit, association fees, and bank charges).

Marine Harvest

We made COS adjustments by deducting direct selling expenses incurred for third-country sales (credit, inspection association fees, and brokerage, handling and document processing costs).

Multiexport

We made COS adjustments by deducting direct selling expenses incurred for home market sales (credit) and adding U.S. direct selling expenses (credit) for comparison to EP transactions in the United States.

Ocean Horizons

We made COS adjustments deducting the weighted-average direct selling expenses incurred by the three respondents that had a viable home market during the POR.

Pacifico Sur

We made COS adjustments by adding U.S. direct selling expenses (including credit, inspection expenses, airline service charges and food and drug charges) and deducting the weighted-average direct selling expenses incurred by the three respondents that had a viable home market during the POR.

Patagonia

We made COS adjustments by adding U.S. direct selling expenses (including credit and inspection expenses) and deducting the weighted-average direct selling expenses incurred by the three respondents that had a viable home market during the POR.

Pesca Chile

We made COS adjustments by deducting direct selling expenses incurred for third-country sales (credit, commissions, association fees and bank charges). For comparison to EP transactions, we added U.S. direct selling expenses (credit, commissions, association fees and bank charges).

Robinson Crusoe

We made COS adjustments by deducting direct selling expenses incurred for third-country sales (credit, accounts receivable insurance, association fees, and quality certification inspection expenses) and adding U.S. direct selling expenses, including credit, accounts receivable insurance, association fees, and quality certification inspection expenses.

Level of Trade/CEP Offset

In accordance with section 773(a)(1)(B) of the Act, to the extent practicable, we determine NV based on sales in the comparison market at the same level of trade as the EP or CEP transactions. The NV level of trade is that of the starting-price sale in the comparison market or, when the NV is based on CV, that of the sales from which we derive SG&A expenses and profit. For EP sales, the U.S. level of trade is also the level of the starting-price sale, which is usually from the exporter to the importer. For CEP sales, it is the level of the constructed sale from the exporter to the importer.

To determine whether NV sales are at a different level of trade than EP or CEP transaction, we examine stages in the marketing process and selling functions along the chain of distribution between the producer and the unaffiliated customer. If the comparison-market sales are at a different level of trade, and the difference affects price comparability with U.S. sales, as manifested in a pattern of consistent price differences between the sales on which NV is based and comparison-market sales at the level of trade of the export transaction, we make a level-of-trade adjustment pursuant to section 773(a)(7)(A) of the Act. For CEP sales, if the NV level is more remote from the factory than the CEP level and there is no basis for determining whether the difference in the levels between NV and CEP affects price comparability, we adjust NV pursuant to section 773(a)(7)(B) of the Act (the CEP offset provision). See Final Determination of Sales at Less Than Fair Value: Greenhouse Tomatoes From Canada, 67 FR 8781 (February 26, 2002).

To apply these guidelines in this review, we obtained information from each respondent about the marketing stages involved in its reported U.S. and comparison-market sales, including a description of the selling activities performed by the respondent for each of its channels of distribution. In identifying levels of trade for EP and comparison market sales, we considered the selling functions reflected in the starting price before any adjustments. For CEP sales, we considered only the selling activities reflected in the price after the deduction of expenses and profit pursuant to section 772(d) of the Act. Generally, if the claimed levels of trade are the same, the functions and activities of the seller should be similar. Conversely, if a party claims that levels of trade are different for different groups of sales, the functions and activities of the seller should be dissimilar.

In conducting our level-of-trade analysis for each respondent, we took into account the specific customer types, channels of distribution, and selling practices of each respondent. We found that, for all respondents, the fact pattern was virtually identical. Sales to both the U.S. and comparison markets were made to distributors, retailers, and, less commonly, to further-processors.

In this review, only three companies, Pesca Chile, Tecmar and Linao requested LOT adjustments. For each of the respondents, with the exception of Pesca Chile, we found that there was a single level of trade in the United States and a single, identical, level of trade in the comparison market. Therefore, it was not necessary to make any level of LOT adjustments or CEP offset adjustments. The companies requesting an LOT adjustment are discussed below, for all other companies, a discussion of our LOT analysis is included in their respective analysis memorandums.

Pesca Chile

For all its third country and EP sales, the selling functions Pesca Chile performed for its different customer categories and channels of distribution were virtually identical. Therefore, we found the EP and home market levels of trade to be the same and made no level-of-trade adjustment.

With regard to CEP sales, we considered only the selling activities reflected in the price after the deduction of expenses and profit covered in section 772(d) of the Act: customer development, sales negotiation, invoicing and collections, arranging customs clearance and handling any claims. After we deducted the expenses and profit covered in section 772(d), the NV level of trade was more remote from Pesca Chile than that of its U.S. sales through affiliate Pescanova, Inc., as adjusted. In addition, there is only one level of trade in the third-country market and we have no other appropriate information on which to determine if there is a pattern of consistent price differences between the sales on which NV is based and comparison market sales at the level of trade of the export transactions. As a result, we are granting a CEP offset pursuant to section 773(a)(7)(B) of the Act.

Linao and Tecmar

During the POR, Linao claimed a CEP offset for its sales through an unaffiliated consignment broker. During verification, the Department noted that Linao does not perform fewer selling activities for U.S. sales made through the consignment broker than for its comparison-market sales. See Verification of the Sales and Cost Responses of Cultivadora de Salmones Linao Ltda. and Salmones Tecmar S.A. in the Third Antidumping Duty Administrative Review of Fresh Atlantic Salmon from Chile From Case Analyst to Gary Taverman, dated July 31, 2002. Therefore, the Department has preliminarily decided to deny Linao's request for a CEP offset. For a further discussion of this issue, which contains proprietary information, see the Analysis Memorandum for Linao and Tecmar.

Preliminary Determination Not To Revoke Order

The Department “may revoke, in whole or part” an antidumping order upon completion of a review under section 751 of the Act. While Congress has not specified the procedures that the Department must follow in revoking an order, the Department has developed a procedure for revocation that is described in 19 CFR 351.222(b)(2). In determining whether to revoke an antidumping duty order in part, the Secretary will consider: (A) Whether one or more exporters or producers covered by the order have sold the merchandise at not less than NV for a period of at least three consecutive years; (B) Whether, for any exporter or producer that the Secretary previously has determined to have sold the subject merchandise at less than NV, the exporter or producer agrees in writing to its immediate reinstatement in the order, as long as any exporter or producer is subject to the order, if the Secretary concludes that the exporter or producer, subsequent to the revocation, sold the subject merchandise at less than NV; and (C) Whether the continued application of the antidumping duty order is otherwise necessary to offset dumping.

The Department's regulation requires, inter alia, that a company requesting revocation submit the following: (1) A certification that the company has sold the subject merchandise at not less than NV in the current review period and that the company will not sell at less than NV in the future; (2) a certification that the company sold the subject merchandise in commercial quantities in each of the three years forming the basis of the receipt of such a request; and (3) an agreement that the order will be reinstated if the company is subsequently found to be selling the subject merchandise at less than fair value. 19 CFR 351.222(e)(1)(i) See, e.g., Notice of Final Results of Antidumping Duty Administrative Review and Determination Not to Revoke the Antidumping Duty Order: Brass Sheet and Strip From the Netherlands, 65 FR 742, 743 (January 6, 2000). Cultivos Marinos, Eicosal, Mainstream, and Pacifico Sur each submitted a certification to the effect that for a consecutive three-year period, including the current review period, it sold the subject merchandise in commercial quantities at not less than normal value and that it would continue to do so in the future. Therefore, because we have determined that these respondents satisfy the requirements of 19 CFR 351.222(b), we preliminarily determine to revoke in part the antidumping order with respect to these respondents. Although Linao and Tecmar each submitted this certification also, we have preliminarily calculated an antidumping margin of 1.32 percent for these companies in this review and these companies do not satisfy the requirements of 19 CFR 351.222(b).

As fully explained in the memorandum concerning the Preliminary Determination to Revoke in Part the Antidumping Duty Order, dated July 31, 2002, we have also preliminarily determined not to revoke the antidumping duty order with respect to Marine Harvest. This memorandum is on file in room B-099 of the main Department of Commerce building.

Currency Conversion

We made currency conversions into U.S. dollars in accordance with section 773A of the Act, based on exchange rates in effect on the date of the U.S. sale, as certified by the Federal Reserve Bank.

Preliminary Results of Review

As a result of this review, we preliminarily determine that the following weighted-average margins exist for the period July 1, 1999, through June 30, 2000:

Exporter/manufacturer | Weighted-average margin percentage
Andes | ¹0.16
Cultivos Marinos | ¹0.10
Eicosal | ¹ 0.44
Friosur | ¹ 0.18
Invertec | 0.00
Linao | 1.32
Los Fiordos | 1.62
Mainstream | ¹ 0.05
Marine Harvest | ¹ 0.11
Multiexport | 0.00
Ocean Horizons | ¹ 0.08
Pacifico Sur | 0.00
Patagonia | ¹ 0.01
Pesca Chile | 1.18
Robinson Crusoe | ¹ 0.06
Tecmar | 1.32
¹ De Minimis.

The Department will disclose calculations performed within five days of the date of publication of this notice to the parties of this proceeding in accordance with 19 CFR 351.224(b). An interested party may request a hearing within 30 days of publication of these preliminary results. See 19 CFR 351.310(c). Any hearing, if requested, will be held 44 days after the date of publication, or the first working day thereafter. Interested parties may submit case briefs and/or written comments no later than 30 days after the date of publication of these preliminary results of review. Rebuttal briefs and rebuttals to written comments, limited to issues raised in such briefs or comments, may be filed no later than 37 days after the date of publication. Parties who submit arguments are requested to submit with the argument (1) a statement of the issue, (2) a brief summary of the argument and (3) a table of authorities. Further, we would appreciate it if parties submitting written comments would provide the Department with an additional copy of the public version of any such comments on diskette. The Department will issue the final results of this administrative review, which will include the results of its analysis of issues raised in any such comments, within 120 days of publication of these preliminary results.

Assessment

Pursuant to 19 CFR 351.212(b), the Department calculated an assessment rate on all appropriate entries. We calculated importer-specific duty assessment rates on the basis of the ratio of the total amount of antidumping duties calculated for the examined sales to the total entered value of the examined sales for that importer. Where the assessment rate is above de minimis, we will instruct the U.S. Customs Service to assess duties on all entries of subject merchandise by that importer.

Cash Deposit Requirements

The following deposit rates will be effective upon publication of the final results of this administrative review for all shipments of fresh Atlantic salmon from Chile entered, or withdrawn from warehouse, for consumption on or after the publication date, as provided by section 751(a)(1) of the Act: (1) The cash deposit rates for companies listed above will be the rates established in the final results of this review, except if a rate is less than 0.5 percent, and therefore de minimis, the cash deposit will be zero; (2) for previously reviewed or investigated companies not listed above, the cash deposit rate will continue to be the company-specific rate published for the most recent period; (3) if the exporter is not a firm covered in this review, a prior review, or the LTFV investigation, but the manufacturer is, the cash deposit rate will be the rate established for the most recent period for the manufacturer of the merchandise; and (4) if neither the exporter nor the manufacturer is a firm covered in this or any previous review conducted by the Department, the cash deposit rate will be 4.57 percent, the All Others rate established in the LTFV investigation.

These cash deposit requirements, when imposed, shall remain in effect until publication of the final results of the next administrative review.

Because Linao and Tecmar were collapsed for only part of the POR, for the purposes of calculating a duty-deposit rate for the collapsed entity, we have calculated a weighted-average of the rates for both companies during the pre-acquisition period with the rate calculated for the combined entity. For the purposes of assessment, we will rely on the period-specific results.

This notice serves as a preliminary reminder to importers of their responsibility under 19 CFR 351.402(f) to file a certificate regarding the reimbursement of antidumping duties prior to liquidation of the relevant entities during this review period. Failure to comply with this requirement could result in the Secretary's presumption that reimbursement of antidumping duties occurred and the subsequent assessment of double antidumping duties.

This determination is issued and published in accordance with sections 751(a)(1) and 777(i)(1) of the Act.

Dated: July 31, 2002.
Faryar Shirzad,
Assistant Secretary for Import Administration.

[FR Doc. 02-19994 Filed 8-6-02; 8:45 am]

BILLING CODE 3510-DS-P